DEPARTMENT OF LABOR

Employment and Training Administration

[TA-W-56,274]

Shane-Hunter, Inc., San Francisco, CA; Notice of Revised Determination on Reconsideration

On March 15, 2005, the Department issued an Affirmative Determination Regarding Application on Reconsideration applicable to workers and former workers of the subject firm. The Notice of determination will soon be published in the Federal Register.

The Department initially denied Trade Adjustment Assistance (TAA) to workers of Shane-Hunter, Inc., San Francisco, California because the subject company's sales and production increased during the relevant period and the subject company did not shift production abroad. Workers were engaged in employment related to the production of women's and children's garments and were not separately identifiable by product line.

In the request for reconsideration, the petitioner alleged that the subject company shifted garment production abroad and is increasing reliance upon imports.

In order to make an affirmative determination and issue a certification of eligibility to apply for Trade Adjustment Assistance, the group eligibility requirements in either paragraph (a)(2)(A) or (a)(2)(B) of Section 222 of the Trade Act must be met. It is determined in this case that the requirements of (a)(2)(A) of Section 222 have been met.

During the reconsideration investigation, the Department requested additional information and clarification from the subject company. The investigation revealed that during the relevant period, the subject company's domestic production levels and employment levels declined and that the subject company increased its reliance on imports of articles like or directly competitive with those produced at the subject company.

In accordance with Section 246 the Trade Act of 1974 (26 U.S.C. 2813), as amended, the Department herein presents the results of its investigation regarding certification of eligibility to apply for Alternative Trade Adjustment Assistance (ATAA) for older workers.

In order for the Department to issue a certification of eligibility to apply for ATAA, the group eligibility requirements of Section 246 of the Trade Act must be met.

The Department has determined in this case that the requirements of Section 246 have been met. A significant number of workers at the firm are age 50 or over and possess skills that are not easily transferable. Competitive conditions within the garment industry are adverse.

Conclusion

After careful review of the facts obtained in the reconsideration investigation, I determine that increases of imports of articles like or directly competitive with those produced at the subject firm contributed importantly to the decline in sales or production and to the total or partial separation of workers of that firm. In accordance with the provisions of the Act, I make the following certification:

All workers of Shane-Hunter, Inc., San Francisco, California, who became totally or partially separated from employment on or after December 15, 2003 through two years from the date of certification are eligible to apply for adjustment assistance under Section 223 of the Trade Act of 1974, and are also eligible to apply for alternative trade adjustment assistance under Section 246 of the Trade Act of 1974.

Signed in Washington, DC this 25th day of March 2005.
Elliott S. Kushner,
Certifying Officer, Division of Trade Adjustment Assistance.

[FR Doc. E5-1925 Filed 4-22-05; 8:45 am]

BILLING CODE 4510-30-P